DEPARTMENT OF ENERGY

Federal Energy Regulatory Commission

[Project No. 2341-033]

Georgia Power Company; Notice of Application for Surrender, Decommissioning, and Removal of Project, and Soliciting Comments, Motions To Intervene, and Protests

Take notice that the following hydroelectric application has been filed with the Commission and is available for public inspection:

a. Type of Proceeding: Application for decommissioning and removal of project.

b. Project No.: 2341-033.

c. Date Filed: September 6, 2022, as supplemented on September 8, 2022.

d. Licensee: Georgia Power Company.

e. Name of Project: Langdale Hydroelectric Project.

f. Location: The project is located on the Chattahoochee River in the City of Valley, Chambers County, Alabama and Harris County, Georgia. The project does not include any federal lands.

g. Filed Pursuant to: Federal Power Act, 16 U.S.C. 791a-825r.

h. Licensee Contact: Ms. Courtenay O'Mara, Southern Company, 241 Ralph McGill Boulevard NE, Bin 10193, Atlanta, GA 30308-3374, (404) 506-7291, cromara@southernco.com.

i. FERC Contact: Dr. Mark Ivy, (202) 502-6156, Mark.Ivy@ferc.gov.

j. Deadline for filing comments, interventions, and protests is December 19, 2022.

The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy: Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2341-033.

k. Description of Request: Georgia Power Company requests to decommission the Langdale Hydroelectric Project by removing the Langdale dam (except for a ten-foot abutment on the east and west sides of the river for historic documentation); decommissioning the Langdale powerhouse in place; and constructing a riprap lined channel from the mainstem of the Chattahoochee River to the Langdale tailrace to ensure flows in the tailrace as requested by the city of Valley, Alabama.

l. This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. At this time, the Commission has suspended access to the Commission's Public Reference Room, due to the proclamation declaring a National Emergency concerning the Novel Coronavirus Disease (COVID-19), issued by the President on March 13, 2020. For assistance, contact FERC Online Support at FERCOnlineSupport@ferc.gov, or toll-free at (866) 208-3676, or for TTY, (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212 and .214, respectively. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests should relate to the surrender application that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency.

p. Agency Comments—Federal, state, and local agencies are invited to file comments on the described proceeding. If any agency does not file comments within the time specified for filing comments, it will be presumed to have no comments.

Dated: November 17, 2022.
Debbie-Anne A. Reese,
Deputy Secretary.

[FR Doc. 2022-25595 Filed 11-22-22; 8:45 am]

BILLING CODE 6717-01-P